INTERNATIONAL TRADE COMMISSION

Notification of Distribution of Administrative Protective Order Documents in Electronic Format

AGENCY: U.S. International Trade Commission.

ACTION: Notification of Distribution of Administrative Protective Order Documents in Electronic Format via CD or DVD.

EFFECTIVE DATE: January 9, 2007.

SUMMARY: The U.S. International Trade Commission (ITC, or Commission) has determined that, beginning January 9, 2007, it will distribute Administrative Protective Order (APO) Release documents in electronic format on either a compact disc (CD) or digital versatile disc (DVD) to parties on the APO service list for Title VII and Safeguard investigations. Parties requiring paper copies will be accommodated based on receipt of a request made to the Secretary to the Commission. The request may be made at the time the party files its application for disclosure of business proprietary information (BPI) or confidential business information (CBI) under APO. It may also be made subsequent to filing of the application at which point it will be accommodated within three (3) business days of receipt of the request.

Each CD/DVD will include APO Release documents in PDF format. In addition, it will include an ASCII text file with a table of contents listing all document files included on the CD/DVD, as well as the investigation number and phase of the investigation for which the documents were submitted. Each CD/DVD will be color coded and clearly marked as containing BPI or CBI. It will also be labeled with the investigation number, phase of the investigation, and date of release. Multiple CDs or DVDs will be used when the cumulative size of all document files exceeds the amount of space available on an individual CD or DVD.

The ITC is instituting this practice as a means of addressing several cost and resource issues with paper distribution, including increasing paper costs, greater storage and handling requirements, and higher postal costs for mailing the documents. In addition, feedback from the Service List community also indicated a preference for receiving APO Release documents in electronic form via CD/DVD.

All obligations imposed on recipients of APO releases by Commission rules and APOs continue in force with respect to the releases made on CD and DVD.

ADDRESSES: Correspondence on this matter should be directed to Marilyn R. Abbott, Secretary to the Commission, U.S. International Trade Commission, 500 E Street, SW., Washington, DC 20436.

FOR FURTHER INFORMATION CONTACT: Technical questions or comments regarding this change may be directed to Joel Moeller, E-Business Division Manager, Office of Information Technology Services, U.S. International Trade Commission, 500 E Street, SW., Washington, DC 20436 (telephone 202-205-2220; e-mail joel.moeller@usitc.gov).Hearing-impaired individuals are advised that information on this matter can be obtained by contacting our TTD terminal at 202-205-1810. General information concerning the Commission may also be obtained by accessing its Internet server (http://www.usitc.gov).

By order of the Commission.
Issued: November 27, 2006.
Marilyn R. Abbott,
Secretary to the Commission.

[FR Doc. E6-20282 Filed 11-29-06; 8:45 am]

BILLING CODE 7020-02-P